DEPARTMENT OF EDUCATION

[Docket No.: ED-2013-ICCD-0156]

Agency Information Collection Activities; Submission to the Office of Management and Budget for Review and Approval; Comment Request; Race to the Top—District Annual Performance Report

AGENCY: Office of the Secretary/Office of the Deputy Secretary (OS), Department of Education (ED).

ACTION: Notice.

SUMMARY: In accordance with the Paperwork Reduction Act of 1995 (44 U.S.C. chapter 3501 et seq.), ED is proposing a new information collection.

DATES: Interested persons are invited to submit comments on or before May 21, 2014.

ADDRESSES: Comments submitted in response to this notice should be submitted electronically through the Federal eRulemaking Portal at http://www.regulations.gov by selecting Docket ID number ED-2014-ICCD-0156 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: For questions related to collection activities or burden, please call Stephanie Valentine, 202-401-0526 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Race to the Top—District Annual Performance Report.

OMB Control Number: 1894-NEW.

Type of Review: A new information collection.

Respondents/Affected Public: State, Local, or Tribal Governments.

Total Estimated Number of Annual Responses: 21.

Total Estimated Number of Annual Burden Hours: 1,113.

Abstract: On May 22, 2012, the Secretary announced the Race to the Top District program, which is designed to build on the momentum of other Race to the Top competitions by encouraging bold, innovative reform at the local level. In FY 2012, the Department awarded approximately $383 million to 16 Race to the Top District grantees representing 55 local educational agencies (LEAs), with grants ranging from $10 to $40 million. Applications for the FY 2013 competition are currently under peer review and the Department plans to make awards in December 2013 for a total of approximately $120 million. FY 2013 grantees will utilize the same Annual Performance Report (APR) template as FY 2012 Race to the Top District grantees.

In order to fulfill our responsibilities for programmatic oversight and public reporting, the Department has developed a Race to the Top District Annual Performance Report (APR) that is tied directly to the FY 2012 and FY 2013 Race to the Top District selection criteria and priorities previously established and published in the Federal Register. The report is grounded in the key performance targets included in grantees approved Race to the Top District plans. Grantees will be required to report on their progress improving student outcomes and implementing personalized learning environments, including narrative sections on progress and key performance indicators. Each grantee district will submit a Race to the Top District APR on an annual basis. The first report for the 16 FY 2012 districts is anticipated to be collected during spring 2014 with FY 2013 grantees reporting for the first time in spring 2015. Districts will submit the narrative elements and quantitative measures via an online data collection platform that will then be converted into a transparent public display.

Dated: April 15, 2014 .
Stephanie Valentine,
Acting Director, Information Collection Clearance Division, Privacy, Information and Records Management Services, Office of Management.

[FR Doc. 2014-08960 Filed 4-18-14; 8:45 am]

BILLING CODE 4000-01-P